DEPARTMENT OF LABOR

Employment and Training Administration

[TA-W-55-964]

Accountemps, Leased Workers at Delta Energy Systems, Inc., Formerly Known as Ascom Energy Systems, Inc., Palm Court, FL; Notice of Termination of Investigation

Pursuant to section 221 of the Trade Act of 1974, an investigation was initiated on November 9, 2004 in response to a worker petition which was filed on behalf of workers at Accountemps, leased to Delta Energy Systems, Inc., formerly known as Ascom Energy Systems, Inc., Palm Court, Florida.

An active certification covering the petitioning group of workers is already in effect (TA-W-55,407, as amended). Consequently, further investigation in this case would serve no purpose, and the investigation has been terminated.

Signed in Washington, DC this 18th day of November 2004.
Richard Church,
Certifying Officer, Division of Trade Adjustment Assistance.

[FR Doc. 04-26825 Filed 12-6-04; 8:45 am]

BILLING CODE 4510-30-M